DEPARTMENT OF DEFENSE

Office of the Secretary

[Docket ID: DOD-2017-HA-0065]

Proposed Collection; Comment Request

AGENCY: Office of the Assistant Secretary of Defense for Health Affairs, DoD.

ACTION: 60-Day information collection notice.

SUMMARY: In compliance with the Paperwork Reduction Act of 1995, the Office of the Assistant Secretary of Defense for Health Affairs announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by February 13, 2018.

ADDRESSES: You may submit comments, identified by docket number and title, by any of the following methods:

• Federal eRulemaking Portal: http://www.regulations.gov. Follow the instructions for submitting comments.

• Mail: Department of Defense, Office of the Deputy Chief Management Officer, Directorate for Oversight and Compliance, Regulatory and Advisory Committee Division, 4800 Mark Center Drive, Mailbox #24, Suite 08D09B, Alexandria, VA 22350-1700.

Instructions: All submissions received must include the agency name, docket number and title for this Federal Register document. The general policy for comments and other submissions from members of the public is to make these submissions available for public viewing on the internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please contact Defense Health Agency, TRICARE Health Plan (J-10), ATTN: Mark Ellis, 7700 Arlington Boulevard, Falls Church, VA 22042, or call the TRICARE Health Plan, 703-681-0039.

SUPPLEMENTARY INFORMATION:

Title; Associated Form; and OMB Number: TRICARE Select Enrollment, Disenrollment, and Change Form, DD Form 3043, OMB Control Number 0720-XXXX.

Needs and Uses: The information collection requirement is necessary to obtain each non-active duty TRICARE beneficiary's personal information needed to: (1) Complete his/her enrollment into the TRICARE Select health plan option, (2) dis-enroll a beneficiary, or (3) change a beneficiary's enrollment information (e.g., address, add a dependent, report other health insurance). This information is required to ensure the beneficiary's TRICARE benefits and claims are administered based on their TRICARE plan of choice. Without this new enrollment form, each non-active duty TRICARE beneficiary is automatically defaulted into direct care, limiting their health care options to military hospitals and clinics. These beneficiaries would have no TRICARE coverage when using the TRICARE network of providers for services not available at their local military hospital or clinic.

Affected Public: Individuals or Households.

Annual Burden Hours: 24,825.

Number of Respondents: 99,300.

Responses per Respondent: 1.

Annual Responses: 99,300.

Average Burden per Response: 15 minutes.

Frequency: On occasion.

Respondents could be any non-active duty TRICARE beneficiary who is not eligible for Medicare. These beneficiaries have the option of enrolling into either the TRICARE Prime or TRICARE Select plan option starting January 1, 2018. Those choosing to enroll in TRICARE Select can do so by submitting the DD Form 3043, using the BWE portal, or calling their Regional Contractor. If they choose to use the DD Form 3043, they must complete the appropriate page(s) of the form and mail the form to their Regional Contractor. No other form is required to enroll, dis-enroll, or change an enrollment. Respondents can download the form from the DoD Forms Management Program website, or click on the link to the form on the TRICARE.mil website or their Regional Contractor's website, or obtain a copy from their local military hospital or clinic. The mailing address and toll-free customer service number for their Regional Contractor are included on the DD Form 3043. If using either website option, the respondent can type in the information on the form prior to printing it or handwrite the information after printing the blank form.

Dated: December 12, 2017.
Aaron Siegel,
Alternate OSD Federal Register Liaison Officer, Department of Defense.

[FR Doc. 2017-27113 Filed 12-14-17; 8:45 am]

BILLING CODE 5001-06-P